DEPARTMENT OF COMMERCE

Foreign-Trade Zones Board

[Docket 22-2002]

Foreign-Trade Zone 39—Dallas/Fort Worth, TX; Expansion of Subzone 39E, Fossil Partners, L.P. (Watches and Consumer Goods)

An application has been submitted to the Foreign-Trade Zones Board (the Board) by the Dallas/Fort Worth International Airport Board, grantee of FTZ 39, requesting on behalf of the watch and accessories warehousing/distribution facility of Fossil Partners, L.P. (Fossil) to expand Subzone 39E, located in Richardson, Texas. The applicant requests the addition of a new site in Dallas, Texas. The application was submitted pursuant to the Foreign-Trade Zones Act, as amended (19 U.S.C. 81a-81u), and the regulations of the Board (15 CFR part 400). It was formally filed on May 1, 2002.

Subzone 39E was approved on December 3, 1997 (Board Order No. 937, 12/10/97). Authority was granted for the warehousing/distribution of watches and accessories at the Fossil facility. The original authority covered a facility located at 2280 N. Greenville Avenue (300,000 sq. ft., 20.41 acres) in Richardson, Texas. On January 28, 2002, authority was granted for a minor boundary modification (A(27f)-7-02), which allowed the company to temporarily relocate its subzone designation (300,000 sq. ft.) to a facility located at 10615 Sanden Drive (517,000 sq. ft., 47.5 acres), in Dallas, Texas.

Fossil requests an expansion of subzone status that would cover its entire Dallas (Sanden Drive) site (517,000 sq. ft.; 47.5 acres). The company also requests a reinstatement of the 300,000 sq. ft. at the Richardson, Texas facility, that was deleted in the January 2002 action that is described above. The nature of the original warehousing/distribution operation at the subzone remains unchanged in terms of products and activities. The level of activity would increase commensurate with the increase in the size of the facility (300,000 sq. ft. to 517,000 sq. ft.).

In accordance with the Board's regulations, a member of the FTZ Staff has been designated examiner to investigate the application and report to the Board.

Public comment on the application is invited from interested parties. Submissions (original and 3 copies) shall be addressed to the Board's Executive Secretary at one of the addresses:

1. Submissions via Express/Package Delivery Services: Foreign-Trade Zones Board, U.S. Department of Commerce, Franklin Court Building—Suite 4100W, 1099 14th Street NW, Washington, DC 20005; or,

2. Submissions via the U.S. Postal Service: Foreign-Trade Zones Board, U.S. Department of Commerce, FCB—Suite 4100W, 1401 Constitution Avenue NW, Washington, DC 20230.

The closing period for their receipt is July 9, 2002. Rebuttal comments in response to material submitted during the foregoing period may be submitted during the subsequent 15-day period (to July 24, 2002).

A copy of the application and accompanying exhibits will be available for public inspection at the Office of the Foreign-Trade Zones Board at the first address listed above and the U.S. Department of Commerce, Export Assistance Center, 711 Houston Street, Fort Worth, Texas 76102.

Dated: May 1, 2002.
Dennis Puccinelli,
Executive Secretary.

[FR Doc. 02-11772 Filed 5-9-02; 8:45 am]

BILLING CODE 3510-DS-P